ENVIRONMENTAL PROTECTION AGENCY

[FRL-6883-3]

Open Meeting of the Industrial Non-Hazardous Waste Stakeholders Focus Group

AGENCY: Environmental Protection Agency.

ACTION: Notice of open meeting of the Industrial Non-Hazardous Waste Stakeholders Focus Group.

SUMMARY: As required by section 10 (a)(2) of the Federal Advisory Committee Act (Public Law 92-463), EPA is giving notice of the seventh meeting of the Industrial Non-Hazardous Waste Policy Dialogue Committee, also known as the Industrial Non-Hazardous Waste Stakeholders Focus Group. The purpose of this Committee is to advise EPA and ASTSWMO (the Association of State and Territorial Solid Waste Management Officials) in developing voluntary guidance for the management of industrial non-hazardous waste in new landfills, waste piles, surface impoundments, and land application units. The Focus Group facilitates the exchange of information and ideas among the interested parties relating to the development of the final “Guide for Industrial Waste Management.” The purpose of the seventh meeting will be to review and discuss issues associated with the public comments received on the “Draft Guide for Industrial Waste Management.” Major areas of discussion will include the public comments on the draft air tool (IWAIR) and the draft ground-water tool (IWEM), as well as suggested changes to the individual chapters of the Guide. In addition, there will be an opportunity for limited public comment at the end of each day of the meeting.

DATES: The committee will meet on November 1 and 2, 2000, from 9:00 a.m. to 5:00 p.m. on November 1, and from 8:30 a.m. to 12:00 p.m. on November 2.

ADDRESSES: The location of the meeting is the Governor's House, 1615 Rhode Island Ave., NW, Washington, D.C. 20001. The phone number is 202-296-2100. The seating capacity of the room is approximately 75 people, and seating will be on a first-come basis. Supporting materials are available for viewing at Docket F-1999-IDWA-FFFFF in the RCRA Information Center (RIC), located at Crystal Gateway One, 1235 Jefferson Davis Highway, First Floor, Arlington, VA. The RIC is open from 9:00 a.m. to 4:00 p.m., Monday through Friday, excluding federal holidays. To review docket materials, the public must make an appointment by calling (703) 603-9230. The public may copy a maximum of 100 pages from any regulatory docket at no charge. Additional copies cost $.15/page. Most of the material to be discussed at the November Focus Group meeting will be available for viewing in the above docket on and after October 17, 2000. For general information, contact the RCRA Hotline at 1-800-424-9346 or TDD 1-800-553-7672 (hearing impaired). In the Washington metropolitan area, call 703-412-9610 or TDD 703-412-3323.

FOR FURTHER INFORMATION CONTACT: Persons needing further information on the committee should contact John Sager, Municipal and Industrial Solid Waste Division, Office of Solid Waste, at (703) 308-7256.

SUPPLEMENTARY INFORMATION:

Background

EPA and ASTSWMO formed a State/EPA Steering Committee in 1996 to jointly develop voluntary facility guidance regarding the management of industrial nonhazardous waste in new land-based disposal units. The purpose of the guidance document is to provide a guide to facility managers, State and Tribal environmental staff, and members of the general public so that safe industrial waste management can be achieved. The current draft Guide addresses such topics as appropriate controls for ground-water protection, liner designs, air emissions, run-on/run-off, public participation, daily operating practices, monitoring and corrective action, and closure and post-closure considerations. In addition, the draft Guide addresses such topics as waste characterization, pollution prevention, and building partnerships.

The draft Guide and the CD-ROM, on which the Guide and modeling tools were placed, were noticed in the FR in June 1999. The public comment period ended in January 2000. The State/EPA Steering Committee will continue to convene this Stakeholders Focus Group in order to obtain recommendations from those individuals who represent a broad spectrum of public interest groups and affected industries. All recommendations from Focus Group participants are forwarded to the State/EPA Steering Committee for consideration, as the Stakeholders Focus Group does not strive for a consensus.

Copies of the minutes of the past six Stakeholder Focus Group meetings have previously been made available through the original docket for this project (F-96-INHA-FFFFF) at the RCRA Information Center. The past six Focus Group meetings were held on April 11-12, 1996, September 11-12, 1996, February 19-20, 1997, May 20-21, 1997, October 8-9, 1997, and March 18-19, 1998.

Dated: September 26, 2000.
Elizabeth A. Cotsworth,
Director, Office of Solid Waste.

[FR Doc. 00-25744 Filed 10-5-00; 8:45 am]

BILLING CODE 6560-50-P